GENERAL SERVICES ADMINISTRATION

41 CFR Parts 301-10 and 301-70

[Notice-MA-2023-07; Docket No. 2023-0002; Sequence No. 30]

Federal Travel Regulation (FTR); Sustainable Transportation for Official Temporary Duty (TDY) Travel

AGENCY: Office of Government-wide Policy (OGP), General Services Administration (GSA).

ACTION: Announcement of FTR bulletin.

SUMMARY: FTR Bulletin 24-02 clarifies existing regulations for determining the method of transportation that is most advantageous to the Government and encourages Federal travelers to make sustainable, cost-effective transportation choices when conducting official TDY travel.

DATES: Applicable December 18, 2023.

FOR FURTHER INFORMATION CONTACT: For clarification of content, contact Jill Denning, Office of Government-wide Policy, Office of Asset and Transportation Management, at travelpolicy@gsa.gov, 202-208-7642. Please cite Notice of GSA Bulletin FTR 24-02.

SUPPLEMENTARY INFORMATION: The Office of Management and Budget (OMB) Memorandum M-24-05 “Catalyzing Sustainable Transportation Through Federal Travel” (issued December 14, 2023) provides guidance for implementing Executive Order (E.O.) 14057, Catalyzing Clean Energy Industries and Jobs through Federal Sustainability. OMB Memo M-24-05 directs Federal agencies to prioritize sustainable transportation options for official travel whenever possible and lead by example as an organization working toward net-zero emissions operations by 2050.

The FTR already encourages measures that promote sustainability, but the transition to clean energy provides additional opportunities for Federal travelers to support sustainable initiatives through the use of clean technologies. Title 5 of the United States Code (U.S.C.), section 5733, states in part “[t]he travel of an employee shall be by the most expeditious means of transportation practicable,” which the FTR expands upon by directing agencies to select the method of transportation most advantageous to the Government when cost and other factors are considered. Energy conservation is an element of sustainability and is one of several non-cost elements required to be considered by agencies when selecting the most advantageous method of transportation (FTR §§ 301-10.4, 301-70.100, and 301-70.101 (41 CFR)).

GSA Bulletin FTR 24-02 can be viewed in its entirety at https://www.gsa.gov/ftrbulletins.

Krystal J. Brumfield,
Associate Administrator, Office of Government-wide Policy.

[FR Doc. 2023-27775 Filed 12-15-23; 8:45 am]

BILLING CODE 6820-14-P